DEPARTMENT OF THE INTERIOR

Fish and Wildlife Service

[FWS-R7-ES-2015-N152; FF07CAMM00- FX-FR133707REG00]

Marine Mammals; Letters of Authorization To Take Pacific Walrus and Polar Bears, Beaufort and Chukchi Seas, Alaska

AGENCY: Fish and Wildlife Service, Interior.

ACTION: Notice of issuance.

SUMMARY: In accordance with the Marine Mammal Protection Act of 1972, as amended (MMPA), the U.S. Fish and Wildlife Service (Service) has issued letters of authorization for the nonlethal take of polar bears and Pacific walrus incidental to oil and gas industry exploration, development, and production activities in the Beaufort Sea and the adjacent northern coast of Alaska and incidental to oil and gas industry exploration activities in the Chukchi Sea and the adjacent western coast of Alaska. These letters of authorization stipulate conditions and methods that minimize impacts to polar bears and Pacific walrus from these activities. These letters of authorization are available electronically at the following location: http://www.fws.gov/alaska/fisheries/mmm/itr.htm.

FOR FURTHER INFORMATION CONTACT: Michael Hendrick at the U.S. Fish and Wildlife Service, Marine Mammals Management Office, 1011 East Tudor Road, MS 341, Anchorage, AK 99503; (800) 362-5148 or (907) 786-3479.

SUPPLEMENTARY INFORMATION: On August 3, 2011, the Service published in the Federal Register a final rule (76 FR 47010) establishing regulations that allow us to authorize the nonlethal, incidental, unintentional take of small numbers of polar bears and Pacific walrus during year-round oil and gas industry exploration, development, and production activities in the Beaufort Sea and adjacent northern coast of Alaska. The rule established subpart J in part 18 of title 50 of the Code of Federal Regulations (CFR) and is effective through August 3, 2016. The rule prescribed a process under which we issue Letters of Authorization (LOAs) to applicants conducting activities as described under the provisions of the regulations.

Each LOA stipulates conditions or methods that are specific to the activity and location. Holders of LOAs must use methods and conduct activities in a manner that minimizes to the greatest extent practicable adverse impacts on Pacific walrus and polar bears and their habitat, and on the availability of these marine mammals for subsistence purposes. Intentional take and lethal incidental take are prohibited.

In accordance with section 101(a)(5)(A) of the MMPA (16 U.S.C. 1361 et seq.) and our regulations at 50 CFR 18, subpart J, we issued LOAs to each of the following companies in the Beaufort Sea and adjacent northern coast of Alaska:

Beaufort Sea Letters of Authorization
Company | Activity | Project | Date issued
Alaska Development and Export Authority | Development | North Slope Liquefied Natural Gas Facility | February 10, 2014.
Alaska Development and Export Authority | Development | North Slope Liquefied Natural Gas Facility (amended) | May 27, 2014.
Alaska Gasline Development Corporation | Exploration | North Slope Geotechnical drilling | April 8, 2014.
BP Exploration, Inc | Exploration | North Prudhoe Seismic Survey | June 11, 2014.
BP Exploration Alaska Inc | Exploration | Winter Vibroseis Seismic Survey | January 29, 2015.
Brooks Range Petroleum Corporation | Development | Mustang Development Program | January 15, 2015.
Caelus Natural Resources Alaska, LLC | Development | Nuna Development Activities | April 20, 2015.
ConocoPhillips Alaska, Inc | Exploration | Environmental Sampling and Well Plug Abandonment | January 16, 2014.
ConocoPhillips Alaska, Inc | Exploration & Development | North Slope activities | December 12, 2014.
ExxonMobil Development Company | Exploration | Preliminary studies for development of Prudhoe Bay Gas Plant | May 16, 2014.
ExxonMobil Alaska LNG LLC | Exploration | Prudhoe Bay Unit Hydrology Studies | August 6, 2014.
ExxonMobil Development Company | Exploration | Prudhoe Bay Unit Field Studies | December 23, 2014.
ExxonMobil Development Company | Exploration | Exploration activities at Point Thomson | January 29, 2015.
Geokinetics | Exploration | Caelus and Great Bear 3D Winter Seismic Surveys | January 14, 2015.
Global Geophysical Services, Inc | Exploration | Kad River 3D Winter Seismic Surveys | January 14, 2015.
Global Geophysical Services, Inc | Exploration | Schrader Bluff 3D Seismic Survey | January 15, 2014.
Hilcorp Alaska, LLC | Production | Operations at the Milne Point, Endicott, and Northstar Facilities | November 14, 2014.
Hilcorp Alaska, LLC | Exploration | Geotechnical Investigation, Sonar and Scour Survey | January 29, 2015.
NordAq Energy, Inc | Exploration | Tulimaniq Exploration Drilling Project | November 14, 2014.
North Slope Borough | Development | Pipeline upgrades near Barrow | July 28, 2015.
Olgoonik Specialty Contractors, LLC | Development | Point Lonely, Oliktok Point, and Bullen Point DEW Line Cleanup | March 25, 2014.
Olgoonik Fairweather, LLC | Exploration | Environmental Baseline Studies | June 11, 2014.
Olgoonik Specialty Contractors, LLC | Development | Demolition and Remediation Projects | May 29, 2015.
Pioneer Natural Resources Alaska, Inc | Development | Nuna Development Project | February 13, 2014.
Repsol E&P USA Inc | Exploration | Drilling Program in the Colville River area | January 29, 2015.
SAExploration, Inc | Exploration | North Slope Big Bend 3D Seismic Survey | February 11, 2014.
SAExploration, Inc | Exploration | Colville River Delta Seismic Survey | August 14, 2014.
SAExploration, Inc | Exploration | Umingmak 2015 Program Horseshoe Winter Seismic Survey | December 23, 2014.
Shell Exploration and Production Company | Production | Ice Overflight Surveys | January 14, 2015.

On June 12, 2013, we published in the Federal Register a final rule (78 FR 35364) establishing regulations that allow us to authorize the nonlethal, incidental, unintentional take of small numbers of polar bears and Pacific walrus during year-round oil and gas industry exploration activities in the Chukchi Sea and adjacent western coast of Alaska. The rule established subpart I of 50 CFR part 18 and is effective until June 11, 2018. The process under which we issue LOAs to applicants and the requirements that the holders of LOAs must follow is the same as described above for LOAs issued under 50 CFR 18, subpart J.

In accordance with section 101(a)(5)(A) of the MMPA and our regulations at 50 CFR 18, subpart I, we issued LOAs to the following companies in the Chukchi Sea:

Chukchi Sea Letters of Authorization
Company | Activity | Project | Date issued
Olgoonik Fairweather, LLC | Exploration | Environmental Studies | July 23, 2014.
Shell Exploration and Production Company | Exploration | Ice observation overflights | January 14, 2015.
Shell Exploration and Production Company | Exploration | Ice observation overflights (amended) | January 29, 2015.
Shell Exploration and Production Company | Exploration | Exploration Drilling Program in the Chukchi Sea | June 30, 2015.
Shell Exploration and Production Company | Exploration | Exploration Drilling Program in the Chukchi Sea (amended) | July 24, 2015.
TGS | Exploration | Seismic Operations | June 28, 2013.
TGS | Exploration | Seismic Operations (amended) | September 11, 2013.

Dated: October 26, 2015.
Peter J. Probasco,
Acting Regional Director, Alaska Region.

[FR Doc. 2015-27978 Filed 11-2-15; 8:45 am]

BILLING CODE 4310-55-P